DEPARTMENT OF LABOR

Employment and Training Administration

[TA-W-42,336]

Power One, Boston, MA; Notice of Termination of Certification

This notice terminates that Certification Regarding Eligibility to Apply For Worker Adjustment Assistance issued by the Department on February 19, 2003, for all workers of Power One located in Boston, Massachusetts. The notice was published in the Federal Register on March 10, 2003 (68 FR 11410).

The Department, at the request of the State agency, reviewed the certification for workers for Power One in Boston, Massachusetts. Findings show that workers of the subject firm produced DC/DC power supplies.

The certification review revealed that workers of Power One are covered by an existing certification, TA-W-39,768, issued on October 31, 2001. While that certification noted that the Power One workers are located in Allston, Massachusetts, the Department has learned that Allston is used synonymously with Boston.

Since the workers of Power One, located in Boston, Massachusetts, also known as Allston, Massachusetts, are covered by an existing certification, the continuation of this certification would serve no purpose and the certification has been terminated.

Signed in Washington, DC this 13th day of March, 2003.
Richard Church,
Certifying Officer, Division of Trade Adjustment Assistance.

[FR Doc. 03-10861 Filed 5-1-03; 8:45 am]

BILLING CODE 4510-30-M